DEPARTMENT OF DEFENSE

Department of the Air Force

[Docket ID USAF-2012-0018]

Privacy Act of 1974; System of Records

AGENCY: Department of the Air Force, DoD.

ACTION: Notice to alter a system of records.

SUMMARY: The Department of the Air Force proposes to alter a system of records notice in its existing inventory of records systems subject to the Privacy Act of 1974 (5 U.S.C. 552a), as amended.

DATES: This proposed action will be effective on October 15, 2012 unless comments are received which result in a contrary determination. Comments will be accepted on or before October 15, 2012.

ADDRESSES: You may submit comments, identified by docket number and title, by any of the following methods:

• Federal Rulemaking Portal: http://www.regulations.gov. Follow the instructions for submitting comments.

• Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act, were submitted on August 28, 2012 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: September 10, 2012.
Aaron Siegel,
Alternate OSD Federal Register Liaison Officer, Department of Defense.

F036 AF PC A

System Name:

Effectiveness/Performance Reporting Records (February 10, 2009, 74 FR 6591).

Changes:

* * * * *

System Location:

Delete entry and replace with “Air Force Personnel Center (AFPC), 550 C Street West, Randolph Air Force Base, TX 78150-4709; Air Reserve Personnel Center, Denver, 18420 East Silver Creek Avenue, Building 390, 68, Buckley Air Force Base, CO 80011-9502.

Headquarters of major commands and field operating agencies; military personnel sections; each State Adjutant General Office and Air Force Reserve and Air National Guard units. Official mailing addresses are published as an appendix to the Air Force's compilation of record systems notices.”

Categories of individuals covered by the system:

Delete entry and replace with “Military Personnel Only.

Officers:

Regular Active Duty Air Force/Air National Guard/Air Force Reserve personnel serving in grades Warrant Officer (W-1) through Colonel (O-6).

Enlisted:

Active duty personnel grades Airman Basic (E-1) through Chief Master Sergeant (E-9). Air National Guard and Air Force Reserve personnel grades Staff Sergeant (E-5) through Chief Master Sergeant (E-9).”

* * * * *

Retrievability:

Delete entry and replace with “Name and/or Social Security Number (SSN).”

Safeguards:

Delete entry and replace with “Records are accessed by the program manager and by persons cleared for need-to-know. Records are stored in file cabinets in the building that are either locked or have controlled access entry requirements. Electronic files are only accessed by authorized personnel with a Secure Common Access Card (CAC) and need-to-know.”

* * * * *

Record source categories:

Delete entry and replace with “Performance evaluations maintained on Air Force Active Duty, Reserve, and Air National Guard personnel grades airman basic E-1 through general O-10.”

* * * * *

[FR Doc. 2012-22580 Filed 9-12-12; 8:45 am]

BILLING CODE 5001-06-P